Proclamation 9049 of October 31, 2013

National Adoption Month, 2013

By the President of the United States of America

A Proclamation

Every young person deserves the chance to learn and grow under the care of a loving family. Across our Nation, adoptive families give that chance to over a million children and teenagers. During National Adoption Month, we celebrate these families and stand alongside every child still looking for the warmth and stability of a permanent home.

Today, nearly 400,000 American children are in foster care, and each year, thousands age out of care without the security that comes from a permanent family or a place to call home. On November 23, National Adoption Day will offer a sense of hope to children waiting for adoptive parents. As we observe this day, courts across our country will open their doors to finalize adoptions that move young people out of foster care.

My Administration has worked to simplify adoption laws; reduce the amount of time young children go without parents; and ensure adoption rights for all qualified couples and individuals. We are calling for an end to discriminatory barriers that keep children from loving and stable homes. And we are working across all levels of government to eliminate roadblocks to adoption and encourage cooperation between adoption advocates, private organizations, and community and faith-based groups. This January, I was proud to sign legislation to permanently extend the Adoption Tax Credit. And to protect the young people of every nation, I signed the Intercountry Adoption Universal Accreditation Act. This law will promote safe and lawful adoptions by setting Federal standards for all adoption service providers, and it will provide greater safeguards to both parents and children.

This month, we celebrate adopted children, teenagers, and their diverse families. We work to give more young people permanent families and promising futures. And we encourage our friends and neighbors to open their hearts and their homes to children in need.

NOW, THEREFORE, I, BARACK OBAMA, President of the United States of America, by virtue of the authority vested in me by the Constitution and the laws of the United States, do hereby proclaim November 2013 as National Adoption Month. I encourage all Americans to observe this month by answering the call to find a permanent and caring family for every child in need, and by supporting the families who care for them.

IN WITNESS WHEREOF, I have hereunto set my hand this thirty-first day of October, in the year of our Lord two thousand thirteen, and of the Independence of the United States of America the two hundred and thirty-eighth.

[FR Doc. 2013-26669

Filed 11-4-13; 11:15 am]

Billing code 3295-F4